DEPARTMENT OF HEALTH AND HUMAN SERVICES

Health Resources and Services Administration

Agency Information Collection Activities: Proposed Collection: Public Comment Request; Information Collection Request Title: Bureau of Health Workforce Performance Data Collection, OMB No. 0915-0061—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than February 8, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION: When submitting comments or requesting information, please include the information request collection title for reference.

Information Collection Request Title: Bureau of Health Workforce Performance Data Collection, OMB No. 0915-0061—Revision.

Abstract: Over 50 Bureau of Health Workforce (BHW) programs award grants to health professions schools and training programs across the United States to develop, expand, and enhance training, and to strengthen the distribution of the health workforce. These programs are governed by titles III, VII, and VIII of the Public Health Service Act. Performance information is collected in the HRSA Performance Report for Grants and Cooperative Agreements. Data collection activities consisting of an annual progress report and an annual performance report satisfy statutory and programmatic requirements for performance measurement and evaluation (including specific title III, VII and VIII requirements), as well as Government Performance and Results Act of 1993, the Government Performance and Results Act Modernization Act of 2010, and the Foundations for Evidence-Based Policymaking Act of 2018 requirements. The performance measures were last revised in 2022 to ensure they addressed programmatic changes, met evolving program management needs, and responded to emerging workforce concerns. As these changes were successful, BHW will continue with its current performance management strategy and make additional changes that reduce burden, simplify reporting, reflect new Department of Health and Human Services and HRSA priorities, and enable longitudinal analysis of program performance. Specifically, an Excel upload feature was implemented for all programs to reduce burden. Questions on partnerships were revised and standardized across forms to understand the type and purposes of partnerships associated with grant funding. Employment-related questions were standardized across programs and forms to provide consistent outcomes on employment location, type of employment, and hiring organization. New questions were added for programs using apprenticeships. Specifically, questions were added to measure additional employment outcomes including role at the employment site and vulnerable populations served and to measure program satisfaction and types of competencies graduates were ready to perform.

A 60-day notice published in the Federal Register on October 19, 2023, 88 FR 72086-87. There was one public comment. The commenter was complementary of BHW's efforts to consolidate performance data into one collection and raised questions related to collaborating with other departments on the data collection, defining apprenticeships, and making individual-level data publicly available. Specifically, the commenter asked how HRSA collaborates on data collection with agencies outside of the Department of Health and Human services. Our response to the commenter explained the data collected via this OMB package are performance metrics specific to HRSA grant programs and the data are used to meet obligations for performance budgeting. This is in alignment with the Government's authorization to collect data to meet reporting requirements. The commenter also asked how HRSA defines apprenticeships and how it aligns with definitions from other agencies. HRSA responded that it uses the Department of Labor's definition of apprentices and that it included questions from the Department of Labor's Employment and Training Administration instrument to reduce reporting burden and made data comparable across the agencies. Lastly, the commenter requested that HRSA make more individual-level data available, but statute prohibits HRSA from doing so (see 42 U.S.C. 292 et seq.). There was a follow-up comment from the same commenter regarding HRSA working with external researchers to analyze data on workforce program participants. HRSA's response was that HRSA does not work with external researchers to analyze data collected on workforce programs. Aggregated data is publicly available to external researchers via HRSA's data warehouse.

Need and Proposed Use of the Information: The purpose of the proposed data collection is to continue analysis and reporting of grantee training activities and education, identify details about the practice locations where trainees work (or plan to work) after program completion, and report outcomes of funded initiatives. Data collected from these grant programs will also provide a description of the program activities of approximately 1,828 reporting grantees to inform policymakers on the barriers, opportunities, and outcomes involved in health care workforce development. The proposed measures focus on four key outcomes:

(1) increasing the workforce supply of well-educated practitioners in needed professions,

(2) increasing the number of practitioners that practice in underserved and rural areas,

(3) enhancing the quality of education, and

(4) supporting educational infrastructure to increase the capacity to train more health professionals in high demand areas.

Likely Respondents: Respondents are awardees of BHW health professions grant programs.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Direct Financial Support Program | 619 | 1 | 619 | 2.7 | 1,671.3
Infrastructure Program | 219 | 1 | 219 | 4.8 | 1,051.2
Multipurpose or Hybrid Program | 1,044 | 1 | 1,044 | 3.1 | 3,236.4
Total | 1,882 |  | 1,882 |  | 5,958.9

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-00210 Filed 1-8-24; 8:45 am]

BILLING CODE 4165-15-P